BUREAU OF CONSUMER FINANCIAL PROTECTION

[Docket No CFPB-2014-0039]

Privacy Act of 1974, as Amended

AGENCY: Bureau of Consumer Financial Protection.

ACTION: Notice of a Revised Privacy Act System of Records.

SUMMARY: In accordance with the Privacy Act of 1974, as amended, the Bureau of Consumer Financial Protection, hereinto referred to as the Consumer Financial Protection Bureau (“CFPB” or the “Bureau”), gives notice of the establishment of a Privacy Act System of Records.

DATES: Comments must be received no later than January 30, 2015. The new system of records will be effective February 9, 2015, unless the comments received result in a contrary determination.

ADDRESSES: You may submit comments, identified by the title and docket number (see above), by any of the following methods:

• Electronic: privacy@cfpb.gov or http://www.regulations.gov. Follow the instructions for submitting comments.

• Mail: Claire Stapleton, Chief Privacy Officer, Consumer Financial Protection Bureau, 1700 G Street NW., Washington, DC 20552.

• Hand Delivery/Courier: Claire Stapleton, Chief Privacy Officer, Consumer Financial Protection Bureau, 1275 First Street NE., Washington, DC 20002. Comments will be available for public inspection and copying at 1275 First Street NE., Washington, DC 20002 on official business days between the hours of 10 a.m. and 5 p.m. Eastern Time. You can make an appointment to inspect comments by telephoning (202) 435-7220. All comments, including attachments and other supporting materials, will become part of the public record and subject to public disclosure. You should submit only information that you wish to make available publicly.

FOR FURTHER INFORMATION CONTACT: Claire Stapleton, Chief Privacy Officer, Consumer Financial Protection Bureau, 1275 First Street NE., Washington, DC 20002, (202) 435-7220.

SUPPLEMENTARY INFORMATION: The CFPB revises its Privacy Act System of Records Notice (“SORN”) “CFPB.021—CFPB Consumer Education and Engagement Records.” In revising this SORN, the CFPB modifies the purpose(s) for which the records are maintained to clarify that information in the system will be used for research purposes in understanding and improving consumer awareness, understanding, and use of disclosures and communications regarding consumer financial products or services; and modifies the categories of records maintained by the system to include the following information: (1) Social Security numbers, voluntarily provided with informed consent, when needed to pull credit reports or otherwise connect data points across data sources to understand consumer financial decision-making and well-being and the effectiveness of financial education or financial capability programs, resources, tools, or interventions; (2) biographical information (e.g. race, ethnicity, date of birth, marital status, education level, household composition information, citizenship status, disability information, or veteran status) voluntarily provided with informed consent in order to understand the effectiveness of financial education or financial capability programs, resources, tools, or interventions, as it relates to certain populations; (3) credit report data; and (4) web analytics information that may be partially identifiable, including records of access to CFPB managed Web sites or resources including date(s) and time(s) of access, IP address of access, logs of internet activity related to use of the site or resource, the address that linked the user directly to the site or resource, in order to understand and enhance the effectiveness or usability of the site or resource. Finally, the Bureau makes several non-substantive changes as part of its annual review of this notice.

The report of the new system of records has been submitted to the Committee on Oversight and Government Reform of the House of Representatives, the Committee on Homeland Security and Governmental Affairs of the Senate, and the Office of Management and Budget, pursuant to Appendix I to OMB Circular A-130, “Federal Agency Responsibilities for Maintaining Records About Individuals,” dated November 30, 2000,¹ and the Privacy Act, 5 U.S.C. 552a(r).

¹ Although pursuant to section 1017(a)(4)(E) of the Consumer Financial Protection Act, Public Law 111-203, the CFPB is not required to comply with OMB-issued guidance, it voluntarily follows OMB privacy-related guidance as a best practice and to facilitate cooperation and collaboration with other agencies.

The revised system of records entitled “CFPB.021—CFPB Consumer Education and Engagement Records” is published in its entirety below.

Dated: December 23, 2014.
Claire Stapleton,
Chief Privacy Officer, Bureau of Consumer Financial Protection.

CFPB.021

SYSTEM NAME:

CFPB Consumer Education and Engagement Records

SYSTEM LOCATION:

Consumer Financial Protection Bureau, 1275 First Street NE., Washington, DC 20002.

CATEGORIES OF INDIVIDUALS COVERED BY THE SYSTEM:

Individuals covered by this system are those who: Participate in CFPB-sponsored or CFPB-funded financial education or financial capability programs, including financial education campaigns; utilize financial education web-tools or other financial education resources; or participate in surveys or other research conducted by the CFPB or by a third party, or by a third party on behalf of the CFPB.

CATEGORIES OF RECORDS IN THE SYSTEM:

Records in the system regarding the individuals described above may include: (1) Contact information (name, phone numbers, email address); (2) unique identifiers provided to government employees; (3) information related to the participant's financial status including bank account information, records of consumer financial transactions, and credit report data; (4) information on consumer characteristics collected in connection with financial education programs or the consumer's business relationship with a third party; (5) bank account information (for payment to survey participants); (6) other information collected from or about consumers in response to surveys or other research methods; (7) information relating to the effectiveness of financial education programs or resources or access to financial products or services; (8) Social Security number(s), when needed to pull credit reports or otherwise connect data points across data sources to understand consumer financial decision-making and well-being and the effectiveness of financial education or financial capability programs, resources, tools, or interventions; (9) biographic information (e.g. race, ethnicity, date of birth, marital status, education level, household composition information, citizenship status, disability information, veteran status) in order to understand the effectiveness of financial education or financial capability programs, resources, tools, or interventions, as it relates to specific populations; and (10) web analytics information that may be partially identifiable, including records of access to CFPB managed Web sites or resources including date(s) and time(s) of access, IP address of access, logs of internet activity related to use of the site or resource, the address that linked the user directly to the site or resource, in order to understand and enhance the effectiveness or usability of the site or resource.

AUTHORITY FOR MAINTENANCE OF THE SYSTEM:

Public Law 111-203, Title X, Sections 1013 and 1022, codified at 12 U.S.C. 5493 and 5512.

PURPOSE(S):

The Act established functions within the CFPB (1) to develop and implement initiatives to educate and empower consumers to make better informed financial decisions; (2) to develop and implement a strategy to improve the financial literacy of consumers, including access to financial information, products and services; (3) to do research regarding, among other things, (a) consumer awareness, understanding, and use of disclosures and communications regarding consumer financial products or services, (b) consumer awareness and understanding of and decision-making relevant to costs, risks, and benefits of consumer financial products or services, (c) consumer behavior with respect to consumer financial products and services, (d) experiences of traditionally underserved consumers, including un-banked and under-banked consumers, and (e) best practices and effective methods, tools, technology and strategies to educate and counsel seniors about personal finance management. Consistent with these functions, the purpose of the system is to enable the CFPB to identify and conduct effective financial education programs and also to collect, research, and publish certain information relevant to understanding and improving consumer financial decision-making and well-being. Although this SORN describes the information to be collected across many CFPB projects, for each project the CFPB will collect only the information needed to accomplish the specific purpose of that project.

ROUTINE USES OF RECORDS MAINTAINED IN THE SYSTEM, INCLUDING CATEGORIES OF USERS AND THE PURPOSES OF SUCH USES:

These records may be disclosed, consistent with the CFPB Disclosure of Records and Information Rules, promulgated at 12 CFR 1070 et seq., to:

(1) Appropriate agencies, entities, and persons when: (a) The CFPB suspects or has confirmed that the security or confidentiality of information in the system of records has been compromised; (b) the CFPB has determined that, as a result of the suspected or confirmed compromise, there is a risk of harm to economic or property interests, identity theft or fraud, or harm to the security or integrity of this system or other systems or programs (whether maintained by the CFPB or another agency or entity) that rely upon the compromised information; and (c) the disclosure made to such agencies, entities, and persons is reasonably necessary to assist in connection with the CFPB's efforts to respond to the suspected or confirmed compromise and prevent, minimize, or remedy such harm;

(2) Another federal or state agency to (a) permit a decision as to access, amendment or correction of records to be made in consultation with or by that agency, or (b) verify the identity of an individual or the accuracy of information submitted by an individual who has requested access to or amendment or correction of records;

(3) To the Office of the President in response to an inquiry from that office made at the request of the subject of a record or a third party on that person's behalf;

(4) Congressional offices in response to an inquiry made at the request of the individual to whom the record pertains;

(5) Contractors, agents, or other authorized individuals performing work on a contract, service, cooperative agreement, job, or other activity on behalf of the CFPB or Federal Government and who have a need to access the information in the performance of their duties or activities;

(6) The U.S. Department of Justice (“DOJ”) for its use in providing legal advice to the CFPB or in representing the CFPB in a proceeding before a court, adjudicative body, or other administrative body, where the use of such information by the DOJ is deemed by the CFPB to be relevant and necessary to the advice or proceeding, and such proceeding names as a party in interest:

(a) The CFPB;

(b) Any employee of the CFPB in his or her official capacity;

(c) Any employee of the CFPB in his or her individual capacity where DOJ has agreed to represent the employee; or

(d) The United States, where the CFPB determines that litigation is likely to affect the CFPB or any of its components;

(7) A court, magistrate, or administrative tribunal in the course of an administrative proceeding or judicial proceeding, including disclosures to opposing counsel or witnesses (including expert witnesses) in the course of discovery or other pre-hearing exchanges of information, litigation, or settlement negotiations, where relevant or potentially relevant to a proceeding, or in connection with criminal law proceedings;

(8) A grand jury pursuant either to a federal or state grand jury subpoena, or to a prosecution request that such record be released for the purpose of its introduction to a grand jury, where the subpoena or request has been specifically approved by a court. In those cases where the Federal Government is not a party to the proceeding, records may be disclosed if a subpoena has been signed by a judge;

(9) Appropriate federal, state, local, foreign, tribal, or self-regulatory organizations or agencies responsible for investigating, prosecuting, enforcing, implementing, issuing, or carrying out a statute, rule, regulation, order, policy, or license if the information may be relevant to a potential violation of civil or criminal law, rule, regulation, order, policy or license; and

(10) Appropriate federal, state, local, foreign, tribal or self-regulatory organizations or agencies or private entities that partner with the CFPB for research purposes.

POLICIES AND PRACTICES FOR STORING, RETRIEVING, ACCESSING, RETAINING, AND DISPOSING OF RECORDS IN THE SYSTEM:

STORAGE:

Paper and electronic records.

RETRIEVABILITY:

Records are retrievable by unique identifiers assigned to the records for purposes of longitudinal updating or for connecting data points across data sources, or by a variety of fields including, without limitation, the individual's name and contact information, identifying file number, or other information collected in response to surveys or other research.

SAFEGUARDS:

Access to electronic records is restricted to authorized personnel who have been issued non-transferrable access codes and passwords. Other records are maintained in locked file cabinets or rooms with access limited to those personnel whose official duties require access.

RETENTION AND DISPOSAL:

The CFPB will manage all computer and paper files in the system as permanent records until the disposition schedule for these records is approved by the National Archives and Records Administration, at which time, the CFPB will dispose of such files in accordance with the schedule.

SYSTEM MANAGER(S) AND ADDRESS:

Consumer Financial Protection Bureau, Associate Director, Consumer Education and Engagement, 1275 First Street NE., Washington, DC 20002.

NOTIFICATION PROCEDURE:

Individuals seeking notification and access to any record contained in this system of records, or seeking to contest its content, may inquire in writing in accordance with instructions appearing in Title 12, Chapter 10 of the CFR, “Disclosure of Records and Information.” Address such requests to: Chief Privacy Officer, Bureau of Consumer Financial Protection, 1700 G Street NW., Washington, DC 20552.

RECORD ACCESS PROCEDURES:

See “Notification Procedures” above.

CONTESTING RECORD PROCEDURES:

See “Notification Procedures” above.

RECORD SOURCE CATEGORIES:

Information in this system is obtained directly from the individual who is the subject of these records, and/or from third parties, including depository or non-depository institutions, credit reporting agencies, counseling agencies or other businesses or organizations or governmental entities involved in the markets for consumer financial products or services or that provide financial education services.

EXEMPTIONS CLAIMED FOR THE SYSTEM:

None.

[FR Doc. 2014-30655 Filed 12-30-14; 8:45 am]

BILLING CODE 4810-AM-P